DEPARTMENT OF AGRICULTURE

Forest Service

Dixie Resource Advisory Committee

AGENCY: Forest Service, USDA.

ACTION: Notice of meeting.

SUMMARY: The Dixie Resource Advisory Committee (RAC) will meet in Cedar City, Utah. The RAC is authorized under the Secure Rural Schools and Community Self-Determination Act of 2000, (the Act) (Public Law 110-343) and operates in compliance with the Federal Advisory Committee Act (FACA) (Public Law 92-463). The purpose of the RAC is to improve collaborative relationships and to provide advice and recommendations to the Forest Service concerning projects and funding consistent with Title II of the Act. The meeting is open to the public. The purpose of the meeting is to review proposals for forest projects and recommending funding.

DATES: The meeting will be held Thursday, May 9, 2013, at 1:00 p.m. (MDT)

ADDRESSES: The meeting will be held at the Dixie National Forest Supervisor's Office, 1789 North Wedgewood Lane, Cedar City, Utah 84721. Written comments may be submitted as described under Supplementary Information. All comments, including names and addresses when provided are placed in the record and are available for public inspection and copying. The public may inspect comments received at the Dixie National Forest Headquarters Office, 1789 North Wedgewood Lane, Cedar City, Utah 84721. Please call ahead to Janice Minarik, RAC Coordinator by phone at (435) 865-3794 to facilitate entry into the building to view comments.

FOR FURTHER INFORMATION CONTACT: Janice Minarik, RAC Coordinator, Dixie National Forests Headquarter at (435) 865-3794, or by email jminarik@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The meeting agenda will focus on reviewing proposals for forest projects and recommending funding. Anyone who would like to bring related matters to the attention of the RAC may file written statements with the RAC staff before the meeting. Written comments and requests for time for oral comments must be sent to Janice Minarik, RAC Coordinator, Dixie National Forests Headquarter by email to jminarik@fs.fed.us or via facismile to (435) 865-3791.

Meeting Accommodations: If you are a person requiring reasonable accommodation, please make requests in advance for sign language interpreting, assistive listening devices or other reasonable accommodation for access to the facility for proceedings by contacting the person listed under For Further Information Contact. All reasonable accommodation requests are managed on a case by case basis.

Dated: April 17, 2013.
Angelita S. Bulletts,
Forest Supervisor, Dixie National Forest.

[FR Doc. 2013-09493 Filed 4-22-13; 8:45 am]

BILLING CODE 3410-11-P